DEPARTMENT OF TRANSPORTATION

Federal Aviation Administration

Ninth RTCA SC-233 Addressing Human Factors/Pilot Interface Issues for Avionics Plenary

AGENCY: Federal Aviation Administration (FAA), U.S. Department of Transportation (DOT).

ACTION: Ninth RTCA SC-233 Addressing Human Factors/Pilot Interface Issues for Avionics Plenary.

SUMMARY: The FAA is issuing this notice to advise the public of a meeting of Ninth RTCA SC-233 Addressing Human Factors/Pilot Interface Issues for Avionics Plenary.

DATES: The meeting will be held February 07-09, 2017, 08:30 a.m.-04:30 p.m.

ADDRESSES: The meeting will be held at: RTCA Headquarters, 1150 18th Street NW., Suite 910, Washington, DC 20036.

FOR FURTHER INFORMATION CONTACT: Rebecca Morrison at rmorrison@rtca.org or 202-330-0654, or The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of the Ninth RTCA SC-233 Addressing Human Factors/Pilot Interface Issues for Avionics Plenary. The agenda will include the following:

Tuesday, February 7, 2017—8:30 a.m.-4:30 p.m.

1. Introduction, Upcoming PMC Dates and Deliverable

2. Review of TOR

3. September meeting summary approval

4. December meeting summary approval

5. Roadmap for remaining items to be completed; notional schedule of activities remaining

6. Working group of the whole—Address Comments

Tuesday, February 8, 2017—8:30 a.m.-4:30 p.m.

7. Working group of the whole—Address Comments

Thursday, February 9, 2017—8:30 a.m.-4:30 p.m.

8. Working Group of the whole—Address Comments

9. Summary report of working group of the whole meetings on February 7th and 8th

10. Other Business

11. Action Items

12. Review of key dates

13. Adjourn

Attendance is open to the interested public for plenary items, but limited to space availability. Working group of the whole items are closed to the public. With the approval of the chairman, members of the public may present oral statements at the meeting. Persons wishing to present statements or obtain information should contact the person listed in the FOR FURTHER INFORMATION CONTACT section. Members of the public may present a written statement to the committee at any time.

Issued in Washington, DC, on January 4, 2017.
Mohannad Dawoud
Management & Program Analyst, Partnership Contracts Branch, ANG-A17 NextGen, Procurement Services Division, Federal Aviation Administration.

[FR Doc. 2017-00112 Filed 1-6-17; 8:45 am]

BILLING CODE 4910-13-P